DEPARTMENT OF VETERANS AFFAIRS

38 CFR Part 21

RIN 2900-AJ23

Information Collection Needed in VA's Flight-Training Programs

AGENCY: Department of Veterans Affairs.

ACTION: Final rule.

SUMMARY: We are amending our educational assistance and educational benefit regulations concerning flight-training courses for which the Department of Veterans Affairs (VA) pays eligible students. In this regard, we are requiring that flight schools offering such flight-training courses maintain records regarding students to whom VA makes payments. This rule is intended to provide information to VA for determining compliance with requirements for VA payments to students for pursuing flight-training courses. Also, when VA, rather than a separate State entity, is the approving agency, this rule is intended to provide information to VA for determining whether to approve a flight-training course.

EFFECTIVE DATE: Effective date: This final rule is effective March 19, 2002.

FOR FURTHER INFORMATION CONTACT: William G. Susling, Jr., Assistant Director for Policy and Program Development, Education Service, Veterans Benefits Administration, 202-273-7187.

SUPPLEMENTARY INFORMATION: In a document published in the Federal Register on April 3, 2000 (65 FR 17477), we proposed to amend VA's educational assistance and educational benefit regulations concerning flight-training courses for which VA makes payments. In this regard, we proposed to add 38 CFR 21.4263(h)(3) to provide that flight schools offering approved flight-training courses must maintain records as set out in the text portion of the document. We also proposed to amend VA's educational assistance and educational benefit regulations by making technical changes for purposes of clarification.

Comments were sought during a 60-day period. Only one comment was received and it was highly supportive of the proposed rule. Based on the rationale set forth in the proposed rule and in this document, we are adopting the provisions of the proposed rule as a final rule except that we are making non-substantive changes for purposes of clarity and are adding a statement following § 21.4263 to reflect the approval by the Office of Management and Budget (MB) of the collection of information requirements contained in this rule.

Paperwork Reduction Act

OMB has approved under the Paperwork Reduction Act of 1995 (44 U.S.C. 3501-3520) the information collection requirements contained in this rule (in 38 CFR 21.4263(h)(3)) and has assigned them OMB control number 2900-0613.

OMB assigns control numbers to collections of information it approves. VA may not conduct or sponsor, and a person is not required to respond to, a collection of information unless it displays a currently valid OMB control number. The valid OMB control number assigned to the collection of information requirements in this rule is displayed at the end of the affected section of the regulations.

Regulatory Flexibility Act

The Secretary of Veterans Affairs hereby certifies that this rule will not have a significant economic impact on a substantial number of small entities as they are defined in the Regulatory Flexibility Act, 5 U.S.C. 601-612. This rule will have a minuscule monetary effect if any, on affected entities. Pursuant to 5 U.S.C. 605(b), this rule, therefore, is exempt from the initial and final regulatory flexibility analyses requirements of sections 603 and 604.

Unfunded Mandates

The Unfunded Mandates Reform Act requires, at 2 U.S.C. 1532, that agencies prepare an assessment of anticipated costs and benefits before developing any rule that may result in an expenditure by State, local, or tribal governments, in the aggregate,or by the private sector, of $100 million or more in any given year. This rule will have no consequential effect on State, local or tribal governments.

Catalog of Federal Domestic Assistance

the Catalog of Federal Domestic Assistance numbers for programs affected by this rule are 64.120 and 64.124. This rule also affects the Montgomery GI Bill—Selected Reserve program, which has no Catalog of Federal Domestic Assistance number.

List of Subjects in 38 CFR Part 21

Administrative practice and procedure, Armed forces, Civil rights, Claims Colleges and universities, Conflict of Interests, Defense Department, Education, Employment, Grant programs—education, Grant programs—veterans, health care, Loan programs—education, Loan programs—veterans, Manpower training programs, Reporting and recordkeeping requirements, Schools, Travel and transportation expenses, Veterans, Vocational education, Vocational rehabilitation.

Approved: December 26, 2001.
Anthony J. Principi,
Secretary of Veterans Affairs.

For the reasons set forth in the preamble, VA amends 38 CFR part 21 (subparts D and L) as follows:

PART 21—VOCATIONAL REHABILITATION AND EDUCATION

Subpart D—Administration of Educational Assistance Programs

1. The authority citation for subpart D continues to read as follows:

Authority: 10 U.S.C. 2141 note, ch. 1606; 38 U.S.C. 501(a), chs. 30, 32, 34,35, 36, unless otherwise noted.

§ 21.4152 [Amended]

2. In § 21.4152, the introductory text of paragraph (b) is amended by removing “on VA.” and adding, in its place, “on VA” and pargraph (b)(4) is amended by removing “§ 21.4209.” and adding, in its place “§ § 21.4209 and 21.4263.”

3. Section 21.4263 is amended by:

A. Removing the authority citation at the end of paragraph (h).

B. Adding paragraph (h)(30.

C. Adding the information collection requirements parenthetical at the end of the section.

The additions read as follows:

§ 21.4263. Approval of flight training courses.

* * * * *

(h) Nonaccredited courses. * * *

(3) A flight school must keep at a minimum the following records for each eligible veteran, servicemember, or reservist pursuing flight training:

(i) A copy of his or her private pilot certificate;

(ii) Evidence of completion of any prior training that may be a prerequisite for the course;

(iii) A copy of the medical certificate required by paragraph (a)(2) of this section for the courses being pursued and copies of all medical certificates (expired or otherwise) needed to support all periods of prior instruction received at the current school;

(iv) A daily flight log or copy thereof;

(v) A permanent ground school record;

(vi) A progress log;

(vii) An invoice of flight changes for individual flights or flight lessons for training conducted on a flight simulator or advanced flight training device;

(viii) Daily flight sheets identifying records upon which the 85-15 percent ratio may be computed;

(ix) A continuous meter record for each aircraft;

(x) An invoice or flight tickets signed by the student and instructor showing hour meter reading, type of aircraft, and aircraft identification number;

(xi) An accounts receivable ledger;

(xii) Individual instructor records;

(xiii) Engine log books;

(xiv) A record for each student above the private pilot level stating the name of the course in which the student is currently enrolled and indicating whether the student is enrolled under 14 CFR part 61, part 63, part 141, or part 142;

(xv) Records of tuition and accounts which are evidence of tuition charged and received from all students; and

(xvi) If training is provided under 14 CFR part 141, the records required by that part, or if training is provided under 14 CFR part 142, the records required by that part.

(Authority: 38 U.S.C. 3671, 3672, 3676, 3690(c))

* * * * *

(The Office of Management and Budget has approved the information collection requirements in this section under control number 2900-0613)

Subpart L—Educational Assistance for Members of the Selected Reserve

4. The authority citation for subpart L continues to read as follows:

Authority: 10 U.S.C. ch. 1606; 38 U.S.C. 501(a), 512, ch. 36, unless otherwise noted.

§ 21.7807 [Amended]

5. Section 21.7807 is amended by removing “§ 21.4209” and adding, in its place, “§ § 21.4209 and 21.4263”.

[FR Doc. 02-6540 Filed 3-18-02; 8:45 am]

BILLING CODE 8320-01-P